DEPARTMENT OF TRANSPORTATION

Federal Aviation Administration

14 CFR Part 39

[Docket No. FAA-2010-1151; Directorate Identifier 95-ANE-10-AD; Amendment 39-16855; AD 2011-23-04]

RIN 2120-AA64

Airworthiness Directives; General Electric Company (GE) CF6 Turbofan Engines

AGENCY: Federal Aviation Administration (FAA), DOT.

ACTION: Final rule.

SUMMARY: We are superseding an existing airworthiness directive (AD) for the engines identified above. That AD currently requires initial and repetitive visual inspections of the forward engine mount assembly side links for cracks, stripping and reapplying the Sermetel W coating on the side links at every exposure of the side link. This new AD requires those same inspections, stripping and reapplying the Sermetel W coating, and adds two part numbers to the applicability. This AD was prompted by a review of the inspection program, which revealed that GE had omitted two affected side link part numbers from the applicability. We are issuing this AD to prevent failure of the side links and possible engine separation from the airplane.

DATES: This AD is effective December 12, 2011.

The Director of the Federal Register approved the incorporation by reference of certain publications listed in the AD as of December 12, 2011.

ADDRESSES: For service information identified in this AD, contact GE Aviation M/D Rm. 285, One Neumann Way, Cincinnati, OH 45215; phone: (513) 552-3272; email: geae.aoc@ge.com. You may review copies of the referenced service information at the FAA, Engine & Propeller Directorate, 12 New England Executive Park, Burlington, MA. For information on the availability of this material at the FAA, call (781) 238-7125.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: (800) 647-5527) is Document Management Facility, U.S. Department of Transportation, Docket Operations, M-30, West Building Ground Floor, Room W12-140, 1200 New Jersey Avenue SE., Washington, DC 20590.

FOR FURTHER INFORMATION CONTACT: Tomasz Rakowski, Aerospace Engineer, Engine Certification Office, FAA, Engine & Propeller Directorate, 12 New England Executive Park, Burlington, MA 01803; phone: (781) 238-7735; fax: (781) 238-7199; email: tomasz.rakowski@faa.gov.

SUPPLEMENTARY INFORMATION:

Discussion

We issued a notice of proposed rulemaking (NPRM) to amend 14 CFR part 39 to supersede AD 2006-12-24, amendment 39-14650 (71 FR 34807, June 16, 2006). That AD applies to the specified products. The NPRM published in the Federal Register on December 13, 2010 (75 FR 77570). That NPRM proposed to continue to require inspecting, stripping, and reapplying the Sermetel W coating on the side links every time one or more of the bolts attaching the side links to the fan frame front high-pressure compressor case or the bolt attaching each side link to the mount platform are removed. That NPRM also proposed to add a left-hand side link, P/N 9346M99P03 and a right-hand side link, P/N 9346M99P04, to the applicability section.

Comments

We gave the public the opportunity to participate in developing this AD. The following is the comment received and our response.

Request To Add MD-10-30F to the “Used on But Not Limited to” List of Airplanes

One commenter, Propulsion & Fuel Systems Design & Analysis, asked us to add the MD-10-30F to the list of airplanes in paragraph (c) of the proposed AD (75 FR 77570, December 13, 2010). The commenter states that MD-10-30F airplanes are equipped with CF6-50C2 model engines.

We agree that the AD may apply to engines installed on the MD-10-30F airplane. However, to avoid confusion, we recently changed our applicability statement and no longer list the aircraft that use the product to which an engine or propeller AD applies. We did not change the AD in response to this comment.

Editorial Change to the Applicability Paragraph (c) for Clarity

We changed paragraph (c) of the proposed AD (75 FR 77570, December 13, 2010) from “(c) This AD applies to * * * and CF6-80A3 turbofan engines with left-hand links * * *.” to “(c) This AD applies to * * * and CF6-80A3 turbofan engines, including engines marked on the engine data plate as CF6-50C2-F and CF6-50C2-R, with left-hand links * * *” This change improves clarity regarding what engines this AD applies to. This change does not change the engines that are affected by this AD; this change is editorial only.

Minor Change to the Economic Evaluation

We made a minor change to the economic analysis to include the pro-rated cost of a replacement part.

Conclusion

We reviewed the relevant data, considered the comment received and determined that air safety and the public interest require adopting the AD as proposed except for the minor editorial changes we made for clarity. These minor changes are consistent with the intent that we proposed in the NPRM (75 FR 77570, December 13, 2010) and do not add any additional burden upon the public than was already proposed in the NPRM.

Costs of Compliance

We estimate that this AD will affect 194 engines installed on airplanes of U.S. registry. We also estimate that it will take about 8 work-hours per engine to perform the actions and that the average labor rate is $85 per work-hour. We estimate that one side link assembly will fail the inspections of this AD and require replacement every 4 years at a pro-rated parts cost of $1,800 per year. Based on these figures, we estimate the total cost of the AD to U.S. operators to be $133,720 per year.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2006-12-24, Amendment 39-14650 (71 FR 34807, June 16, 2006), and adding the following new AD:

2011-23-04 General Electric Company: Amendment 39-16855; Docket No. FAA-2010-1151; Directorate Identifier 95-ANE-10-AD.

Effective Date

(a) This airworthiness directive (AD) is effective December 12, 2011.

Affected ADs

(b) This AD supersedes AD 2006-12-24, Amendment 39-14650 (71 FR 34807, June 16, 2006).

Applicability

(c) This AD applies to General Electric (GE) CF6-45A, CF6-45A2, CF6-50A, CF6-50C, CF6-50CA, CF6-50C1, CF6-50C2, CF6-50C2B, CF6-50C2D, CF6-50E, CF6-50E1, CF6-50E2, CF6-50E2B, CF6-80A, CF6-80A1, CF6-80A2, and CF6-80A3 turbofan engines, including engines marked on the engine data plate as CF6-50C2-F and CF6-50C2-R, with left-hand side links part numbers (P/Ns) 9204M94P01, 9204M94P03, 9346M99P01, and 9346M99P03, and right-hand side links, P/Ns 9204M94P02, 9204M94P04, 9346M99P02, and 9346M99P04, installed on the forward engine mount assembly (also known as Configuration 2).

Unsafe Condition

(d) This AD results from a report that GE had omitted two affected side link part numbers from the applicability of the original AD. We are issuing this AD to include those part numbers and to prevent failure of the side links and possible engine separation from the airplane.

Compliance

(e) You are responsible for having the actions required by this AD performed at every exposure of the side link.

Inspecting and Stripping and Reapplying the Sermetel W Coating on the Side Links

(f) Inspect, strip, and reapply the Sermetel W coating on each side link at every exposure of the side link. Use the following GE service bulletins (SBs):

(1) For CF6-45/-50 series engines, use paragraphs 3.A. through 3.E. of the Accomplishment Instructions of CF6-50 S/B 72-1255, Revision 1, dated June 17, 2009.

(2) For CF6-80A series engines, use paragraphs 3.A. through 3.E. of the Accomplishment Instructions of CF6-80A S/B72-0797, Revision 1, dated June 17, 2009.

Definition of Exposure of Side Link

(g) A side link is exposed when one or more bolts that attach the side links to the fan frame-front high-pressure compressor case are removed or when the bolt attaching the side link to the mount platform is removed.

Alternative Methods of Compliance

(h) The Manager, Engine Certification Office, FAA, may approve alternative methods of compliance for this AD. Use the procedures found in 14 CFR 39.19 to make your request.

Related Information

(i) For more information about this AD, contact Tomasz Rakowski, Aerospace Engineer, Engine Certification Office, FAA, Engine & Propeller Directorate, 12 New England Executive Park, Burlington, MA 01803; phone: (781) 238-7735; fax: (781) 238-7199; email: tomasz.rakowski@faa.gov.

Material Incorporated by Reference

(j) You must use the following service information to do the actions required by this AD, unless the AD specifies otherwise. The Director of the Federal Register approved the incorporation by reference (IBR) under 5 U.S.C. 552(a) and 1 CFR part 51 of the following service information on the date specified:

(1) GE CF6-50 S/B 72-1255, Revision 1, dated June 17, 2009, approved for IBR December 12, 2011.

(2) GE CF6-80A S/B 72-0797, Revision 1, dated June 17, 2009, approved for IBR December 12, 2011.

(3) For service information identified in this AD, contact GE Aviation M/D Rm. 285, One Neumann Way, Cincinnati, OH 45215; phone: (513) 552-3272; email: geae.aoc@ge.com.

(4) You may review copies of the service information at the FAA, Engine & Propeller Directorate, 12 New England Executive Park, Burlington, MA. For information on the availability of this material at the FAA, call (781) 238-7125.

(5) You may also review copies of the service information that is incorporated by reference at the National Archives and Records Administration (NARA). For information on the availability of this material at an NARA facility, call (202) 741-6030, or go to http://www.archives.gov/federal_register/code_of_federal_regulations/ibr_locations.html.

Issued in Burlington, Massachusetts, on October 26, 2011.
Peter A. White,
Manager, Engine & Propeller Directorate, Aircraft Certification Service.

[FR Doc. 2011-28671 Filed 11-4-11; 8:45 am]

BILLING CODE 4910-13-P